DEPARTMENT OF ENERGY

Federal Energy Regulatory Commission

[Project No. 2558-029]

Vermont Marble Power Division of Omya Inc.; Notice of Application Accepted for Filing, Soliciting Motions to Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2558-029.

c. Date filed: March 31, 2010.

d. Applicant: Vermont Marble Power Division of Omya Inc.

e. Name of Project: Otter Creek Hydroelectric Project.

f. Location: The existing project is located on Otter Creek in Addison and Rutland counties, Vermont. The project does not affect federal lands.

g. Filed Pursuant to: Federal Power Act 16 U.S.C. 791 (a)-825(r)

h. Applicant Contact: Todd Allard, Operations Engineer, Vermont Marble Power Division of Omya Inc., 9987 Carver Road, Suite 300, Cincinnati, OH 45242; Telephone (513) 387-4344.

i. FERC Contact: Aaron Liberty, Telephone (202) 502-6862, and e-mail aaron.liberty@ferc.gov.

j. The deadline for filing motions to intervene and protests, comments, recommendations, preliminary terms and conditions, and preliminary prescriptions is August 30, 2011, and reply comments are due October 14, 2011.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Otter Creek Project consists of three developments with a combined installed capacity of 18.1 megawatts (MW). The project produces an average annual generation of 67,258 megawatt-hours. Vermont Marble Power uses the energy from the project to serve its retail customers in the towns of Proctor and Pittsford, Vermont and to serve its affiliated industrial operations within Omya Inc.

On November 23, 2010, the Commission issued an order approving transfer of licenses and substitution of applicant which approved the transfer of the existing license for the Otter Creek Hydroelectric Project from Vermont Marble Power to Central Vermont Public Service Corporation (133 FERC ¶ 62,171 [2010]). Ordering Paragraph (D) of the order provides that the approval of the transfer is contingent upon, among other things, transfer of the title of the properties under license, transfer of all project files, and delivery of all license instruments to Central Vermont Public Service. On April 15, 2011, Vermont Marble Power and Central Vermont Public Service jointly indicated that they would not be able to fulfill the requirements of Ordering Paragraph (D) until June 30, 2011. On April 29, 2011, the Commission issued an order granting Vermont Marble Power and Central Vermont Public Service an extension of time until June 30, 2011 for filing the requirements of Ordering Paragraph (D).

The Proctor development, located at river mile 64.2, consists of: (1) An existing 13-foot-high, 128-foot-long dam with a 3-foot-high inflatable flashboard system; (2) an existing 92-acre reservoir with a storage capacity of 275 acre-feet at a normal maximum water surface elevation of 469.5 feet mean sea level (M.S.L); (3) a gated-forebay intake structure approximately 14 feet deep by 115 feet long with a maximum width of 48 feet; (4) two intakes with two penstocks: A 9-foot-diameter, 460-foot-long, riveted steel penstock that decreases to 8 feet diameter; and a 7-foot-diameter, 500-foot-long, spiral welded steel penstock; (5) an original concrete and brick masonry powerhouse measuring 100 by 33 feet containing four vertical shaft turbines: Three 750-kilowatt (kW) units and one 1,680-kW unit with a combined maximum hydraulic capacity of 565 cubic feet per second (cfs); (6) an additional steel structure measuring 28 by 48 feet attached to the original powerhouse containing one 3,000-kW vertical shaft unit with a maximum hydraulic capacity of 325 cfs; (7) generator leads; (8) a 0.48/4.16-kilovolt (kV) single phase transformer; (9) a 0.48/46-kV step-up transformer; (10) three winding transformer banks; and (11) appurtenant facilities.

The Beldens development, located at river mile 23, consists of: (1) Two existing concrete dams on either side of a ledge/bedrock island with 2.5-foot-high wooden flashboards: A 15-foot-high, 56-foot-long dam (west) and a 24-foot-high, 57-foot-long dam (east); (2) an existing 22-acre reservoir with a storage capacity of 253 acre-feet at a normal maximum water surface elevation of 282.52 feet M.S.L.; (3) two intakes equipped with trash racks: A 79-foot-long intake and a 35-foot-long intake with a 95-foot-long sluiceway; (4) a 12-foot-diameter, 30-foot-long steel penstock that bifurcates into two 10-foot-diameter sections, each leading to an original powerhouse; (5) a 12-foot-diameter, 45-foot-long concrete penstock that leads to a newer powerhouse; (6) an original concrete and masonry powerhouse measuring 40 by 44 feet containing a 800-kW vertical shaft unit and 949-kW vertical shaft unit with a combined maximum hydraulic capacity of 650 cfs; (7) a second, newer concrete powerhouse measuring 40 by 75 feet containing a 4,100-kW vertical shaft unit with a maximum hydraulic capacity of 1,350 cfs; (8) generator leads; (9) a 2.4/46-kV step-up transformer bank; and (10) appurtenant facilities.

The Huntington Falls development, located at river mile 21, consists of: (1) An existing 31-foot-high, 187-foot-long concrete dam with a 2.5-foot-high inflatable flashboard system; (2) an existing 23-acre reservoir with a storage capacity of 234 acre-feet at a normal maximum water surface elevation of 218.1 feet M.S.L; (3) two intakes equipped with trash racks: A 40-foot-long intake and a 24-foot-long intake; (4) three penstocks: Two 10-foot-diameter, 30-foot-long steel penstocks leading to an original powerhouse, and a 12-foot-diameter, 75-foot-long concrete penstock leading to a newer powerhouse; (5) an original brick masonry powerhouse measuring 42 by 60 feet containing a 600-kW vertical shaft unit and a 800-kW vertical shaft unit with a combined maximum hydraulic capacity of 660 cfs; (6) a second, newer powerhouse measuring 40 by 75 feet containing a 4,100-kW vertical shaft unit with a maximum hydraulic capacity of 1,350 cfs; (7) generator leads; (8) a 2.4/46-kV step-up transformer bank; and (9) appurtenant facilities.

Currently, the Proctor development operates in a modified run-of-river mode, with infrequent diversions at the direction of Independent System Operator-New England, while the Beldens and Huntington Falls developments operate in a run-of-river mode. The Proctor development provides a continuous downstream minimum flow of 100 cfs or inflow to the development, whichever is less, with minimum flows from April through mid-June equal to at least 50 percent of project inflows. A bypassed reach minimum flow of 5 cfs is released at the Beldens development through an opening in the flashboards along the west dam. A bypassed reach minimum flow of 15 cfs is released at the Huntington Falls development via a minimum flow gate at the right abutment of the dam.

The dams and existing project facilities described above are currently owned by Vermont Marble Power. Vermont Marble Power does not propose any changes to project facilities or operations. However, as noted above, the license for the project is currently being transferred to Central Vermont Public Service Corporation. Vermont Marble Power proposes to implement measures to enhance recreation facilities in the project area.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. As noted in item (l) above, the current license is being transferred to Central Vermont Public Service Corporation. The revised schedule takes into consideration the timeline for completing the transfer. Revisions to the schedule may be made as appropriate.

Milestone | Target date
Filing of recommendations, preliminary terms and conditions, and preliminary fishway prescriptions | August 30, 2011.
Commission issues EA | December 28, 2011.
Comments on EA | January 27, 2012.
Modified terms and conditions | February 26, 2012.

p. Final amendments to the application must be filed with the Commission no later than July 31, 2011.

q. A license applicant must file no later than August 30, 2011: (1) A copy of the water quality certification; (2) a copy of the request for certification, including proof of the date on which the certifying agency received the request; or (3) evidence of waiver of water quality certification.

Dated: May 2, 2011.
Kimberly D. Bose,
Secretary.

[FR Doc. 2011-11088 Filed 5-5-11; 8:45 am]

BILLING CODE 6717-01-P